DEPARTMENT OF THE TREASURY

Senior Executive Service; Departmental Offices Performance Review Board

AGENCY: Treasury Department.

ACTION: Notice of members of the Departmental Offices Performances Review Board.

SUMMARY: Pursuant to 5 U.S.C. 4314(c)(4), this notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

Composition of Departmental Offices PRB: The Board shall consist of at least three members. In the case of an appraisal of a career appointee, more than half the members shall consist of career appointees. The names and titles of the Board members are as follows:

Coloretti, Nani Ann, Deputy Assistant Secretary for Management and Budget.

Dohner, Robert S., Deputy Assistant Secretary for South and East Asia.

Duffy, Michael D., Deputy Assistant Secretary for Information Systems and Chief Information Officer.

Fitzpayne, Alistair M., Deputy Chief of Staff.

Fleetwood, Nancy, Deputy Assistant Secretary (Accounting Policy).

Fuller, Reese H., Advanced Counterfeit Deterrence Program Director.

Gerardi, Geraldine A., Director for Business and International Taxation.

Gillette, Robert E., Director for Economic Modeling and Computer Analysis.

Glaser, Daniel L., Deputy Assistant Secretary (Terrorist Financing and Financial Crimes).

Granat, Rochelle F., Deputy Assistant Secretary for Human Resources and Chief Human Capital Officer.

Gregg, Richard L., Acting Fiscal Assistant Secretary.

Grippo, Gary E., Deputy Assistant Secretary (Fiscal Operations and Policy).

Hammerle, Barbara C., Deputy Director, Office of Foreign Assets Control.

Hampl, Eric E., Director, Executive Office of Asset Forfeiture.

Harvey, Mariam G., Director, Office of Civil Rights and Diversity.

Hastings, Charles R., Deputy Chief Human Capital Officer.

Jaskowiak, Mark M., Director, Office of Specialized Development.

Kuziemko, Ilyana M., Deputy Assistant Secretary (Microeconomic Analysis).

Mahaffie, Robert F, Departmental Budget Director.

Mayock, Andrew J., Executive Secretary.

Lee, Nancy, Deputy Assistant Secretary (Western Hemisphere).

Mathiasen, Karen V., Director, Office of Multilateral Development Banks.

McDonald, William L., Deputy Assistant Secretary (Technical Assistance Policy).

Mendelsohn, Howard S., Deputy Assistant Secretary (Intelligence & Analysis).

Ostrowski, Nancy, Director, Office of D.C. Pensions.

Patterson, Mark A., Chief of Staff.

Ramanathan, Karthik, Director, Office of Debt Management.

Skud, Timothy E., Deputy Assistant Secretary (Tax, Trade and Tariff Policy).

Sobel, Mark D., Deputy Assistant Secretary (International Monetary and Financial Policy).

Szubin, Adam J., Director, Office of Foreign Assets Control.

Tangherlini, Dan, Assistant Secretary for Management and Chief Financial officer.

Tvardek, Steven F., Director, Office of Trade Finance.

Vandivier, David P., Deputy Assistant Secretary for Legislative Affairs (Tax and Budget).

Warthin, Thomas W., Director, Office of Financial Services Negotiations.

Worth, John D., Director, Office of Microeconomic Analysis.

DATES: Effective Date: Membership is effective on the date of this notice.

FOR FURTHER INFORMATION CONTACT: Christine Nalli, Supervisory Human Resources Specialist, 1500 Pennsylvania Avenue, NW., ATTN: National Press Building, Room 200, Washington, DC 20220. Telephone: 202-622-1105.

This notice does not meet the Department's criteria for significant regulations.

Barbara Pabotoy,
Acting Director, Office of Human Resources.

[FR Doc. E9-24368 Filed 10-8-09; 8:45 am]

BILLING CODE 4811-42-P